FEDERAL MARITIME COMMISSION

[Docket No. FMC-2025-0005]

Order of Investigation Into Transit Constraints at International Maritime Chokepoints

AGENCY: Federal Maritime Commission.

ACTION: Order of investigation and request for comments.

SUMMARY: The Federal Maritime Commission (Commission) has exercised its statutory authority to initiate a nonadjudicatory investigation into transit constraints at international maritime chokepoints, particularly concerning the effects of the laws, regulations or practices of foreign governments, and the practices of owners or operators of foreign-flag vessels, on shipping conditions in these chokepoints.

DATES: Submit comments on or before May 13, 2025.

ADDRESSES: You may submit comments, identified by Docket No. FMC-2025-0005, by the following method:

Federal eRulemaking Portal: Your comments must be written and in English. You may submit your comments electronically through the Federal Rulemaking Portal at www.regulations.gov. To submit comments on that site, search for Docket No. FMC-2025-0005 and follow the instructions provided.

FOR FURTHER INFORMATION CONTACT: For questions regarding submitting comments or the treatment of confidential information, contact David Eng, Secretary; Phone: (202) 523-5725; Email: Secretary@fmc.gov.

SUPPLEMENTARY INFORMATION:

I. Introduction

Based on available information, it appears that constraints on transits through the English Channel, the Malacca Strait, the Northern Sea Passage, the Singapore Strait, the Panama Canal, the Strait of Gibraltar, and the Suez Canal may have created shipping conditions that call for careful consideration by the Federal Maritime Commission (Commission) in connection with the determination of its policies and the carrying out of its duties. The Commission has a statutory mandate to monitor and evaluate conditions affecting shipping in U.S. foreign trade. 46 U.S.C. 42101. Section 42101(a) provides that the Commission “shall prescribe regulations affecting shipping in foreign trade . . . to adjust or meet general or special conditions unfavorable to shipping in foreign trade,” when those conditions are the result of a foreign country's laws or regulations or the “competitive methods, pricing practices, or other practices” used by the owners, operators, or agents of “vessels of a foreign country.”

The Commission will conduct this investigation in accordance with its procedures for a nonadjudicatory investigation set forth in 46 CFR part 502, subpart R.

II. Summary of Apparent Conditions

Recent events have indicated that transit constraints at several critical points in the global shipping supply chain have led to conditions that are appropriate for the Commission to investigate. Such constraints have affected transits through the English Channel, the Malacca Strait, the Northern Sea Passage, the Singapore Strait, the Panama Canal, the Strait of Gibraltar, and the Suez Canal. The significance of these chokepoints is described below.

(A.) English Channel

The English Channel, with its narrow width of 21 miles and heavy traffic, experiences congestion, limited passing opportunities, and an elevated risk of collisions, especially near busy ports like Dover and Calais.¹ Navigational challenges are compounded by strong tidal currents, variable weather conditions, and hazards such as shallow areas and sandbanks, requiring precise maneuvering. The region's strict environmental regulations, geopolitical tensions, security risks, and ongoing issues like smuggling and illegal migration can further cause delays and disruptions. Additionally, political developments, border controls, and customs checks add complexities, with the Channel's proximity to sensitive areas between the UK and France sometimes leading to heightened security concerns.

¹ Squire, David, The Hazards of Navigating the Dover Strait (Pas-de-Calais) Traffic Separation Scheme, Journal of Navigation (May 2003), https://www.researchgate.net/publication/231921002_The_Hazards_of_Navigating_The_Dover_Strait_Pas-de-Calais_Traffic_Separation_Scheme.

(B.) Malacca Strait

The Malacca Strait, with its narrow width, shallow areas, and limited navigational infrastructure in remote sections, presents significant challenges for large vessels, particularly in low visibility or harsh weather conditions such as monsoons, storms, and strong currents. These factors increase the risk of accidents and restrict the passage of deep-draft vessels. The high traffic volume, especially during peak seasons, leads to congestion, delays, and limited passing opportunities, further heightening the risk of accidents. Piracy, including hijackings and robberies, remains a significant concern, particularly in remote areas, while regional political instability and territorial disputes create additional security risks and potential disruptions ² to transit.

² Interview on Geoeconomic Crossroads: The Strait of Malacca's Impact on Regional Trade, The National Bureau of Asian Research (Oct. 5, 2023), https://www.nbr.org/publication/geoeconomic-crossroads-the-strait-of-malaccas-impact-on-regional-trade/.

(C.) Northern Sea Passage

The Northern Sea Passage is emerging as a critical maritime chokepoint as new shipping routes open, a development that could reshape global trade patterns. As the region's waters become ice-free for longer periods, the Northern Sea Passage offers a shortcut between Europe and Asia, reducing travel time and fuel consumption. However, this has sparked competition over governance, with Russia seeking control over the shortest maritime route between Europe and Asia, and imposing fees, while other nations push for international access. The Northern Sea Passage's strategic importance is further amplified by increased military activity from Russia and China, including new bases ³ and icebreakers,⁴ reflecting its growing value for nuclear deterrence and missile defense. As a result, both Russia and NATO forces are ramping up their military presence, increasing the potential for tensions and conflicts ⁵ over access to the region's trade routes and resources.

³ Laws, Jasmine, Map Shows Locations of NATO and Russian Military Bases in the Arctic, Newsweek (Feb. 3, 2025, 4:57 a.m.), https://www.newsweek.com/nato-russias-military-bases-Northern-Sea-Passage-map-2022961.

⁴ Shkolnikova, Svetlana, Russia and China Conducting Joint Arctic Operations for First Time, Coast Guard Says, Stars and Stripes (Nov. 14, 2024), https://www.stripes.com/branches/coast_guard/2024-11-14/coast-guard-arctic-icebreakers-russia-china-15849293.html.

⁵ Grady, John, Risks of Military Confrontation in Artic Increasing, Say U.S. and Russian Officials, USNI News (Dec. 25, 2024, 3:41 p.m.), https://news.usni.org/2024/12/25/risks-of-military-confrontation-in-arctic-increasing-say-u-s-and-russian-officials.

(D.) Singapore Strait

The narrow Singapore Strait presents significant challenges for maritime navigation, with limited passing opportunities that increase delays and the risk of accidents, particularly for large vessels that require precise navigation in congested areas. Shallow zones restrict the passage of deep-draft vessels, necessitating careful maneuvering to avoid grounding.⁶ The Strait is also subject to unpredictable weather conditions, including heavy rains, storms, and strong currents, which can slow vessel movement and complicate navigation, especially for larger ships. Environmental risks such as oil spills, marine pollution, and stringent regulations further constrain passage and cause delays. Although piracy has decreased, the Strait still faces security threats, including hijackings and robberies ⁷ in remote areas, along with potential disruptions due to regional political tensions.

⁶ IMO Navigation Rules at Straits of Malacca and Singapore, International Register of Shipping (Dec. 7, 2019), https://intlreg.org/2019/12/07/imo-navigation-rules-at-straits-of-malacca-and-singapore/.

⁷ Marcus Hand, Multiple Groups of Robbers Targeting Ships in Singapore Strait, Seatrade Maritime (Mar. 3, 2025), https://www.seatrade-maritime.com/piracy/multiple-groups-of-robbers-targeting-ships-in-singapore-strait.

(E.) Panama Canal

While the Panama Canal underwent a major expansion in 2016 with the addition of a third set of locks to accommodate “New Panamax” vessels,⁸ it still faces significant capacity limitations and cannot accommodate the largest ships, such as ultra-large container vessels. During periods of high demand, congestion leads to delays, causing costly disruptions to global supply chains.⁹ The canal relies on freshwater from nearby lakes to operate its locks, and prolonged droughts, exacerbated by unpredictable rainfall patterns, can significantly reduce available water levels, impacting its functionality and efficiency. These environmental factors increase the canal's vulnerability to operational disruptions, especially during dry spells.

⁸ Kahuina Miller, and Tetsuro Hyodo, Impact of the Panama Canal Expansion on Latin American and Caribbean Ports: Difference in Difference (DID) Method, Journal of Shipping and Trade (July 8, 2021). https://jshippingandtrade.springeropen.com/articles/10.1186/s41072-021-00091-5#.

⁹ Drought at the Panama Canal delays energy shipments, increasing shipping costs, U.S. Energy Information Administration (Oct. 23, 2023), https://www.eia.gov/todayinenergy/detail.php?id=60842#.

The Panama Canal also holds substantial geopolitical importance, crucial to the interests of the United States. Political instability or disruptions in its operation could have far-reaching consequences.

Panama's Ship Registry is one of the world's largest ship registries with over 8,000 vessels reportedly registered under the Panamanian flag. Remedial measures the Commission can take in issuing regulations to address conditions unfavorable to shipping in U.S. foreign trade include refusing entry to U.S. ports by vessels registered in countries responsible for creating unfavorable conditions. See 46 U.S.C. 42107.

(F.) Strait of Gibraltar

The Strait of Gibraltar, at just eight miles wide, is one of the world's busiest shipping lanes, with heavy traffic and limited space for large vessels, raising the risk of collisions, congestion, and delays, especially during peak periods.¹⁰ Navigational challenges such as strong currents, winds, and fog further complicate passage, while environmental risks like oil spills and pollution, along with strict regulations, create additional constraints. Geopolitical tensions between Spain, Morocco,¹¹ and issues surrounding the status of Gibraltar, along with piracy and smuggling, contribute to security concerns and potential disruptions in the region.

¹⁰ Container Ship and Oil Tanker Collide in Strait of Gibraltar, Containerlift (Dec. 4, 2024), https://www.containerlift.co.uk/container-ship-and-oil-tanker-collide-in-strait-of-gibraltar/.

¹¹ Spain and Morocco: Spain's permissiveness towards its southern neighbor, University of Navarra, Global Affairs and Strategic Studies (Apr 19, 2023), https://en.unav.edu/web/global-affairs/espana-y-marruecos-la-permisividad-espanola-ante-el-vecino-del-sur.

(G.) Suez Canal

The Suez Canal, handling between 10% and 12% of global trade,¹² is one of the busiest waterways in the world. Its narrow width and single-lane format often leads to delays, especially during peak seasons. Events such as the 2021 Ever Given blockage highlighted the canal's vulnerabilities, causing massive trade disruptions,¹³ while its shallow depth makes it prone to weather-related issues, further increasing the risk of accidents. The canal's strategic importance also makes it a focal point for geopolitical tensions, including conflicts involving the Houthis and the Gaza Crisis,¹⁴ as well as threats from piracy and terrorism. Additionally, environmental concerns have arisen due to the potential spread of invasive species by ships passing through the waterway.

¹² The Importance of the Suez Canal to Global Trade, New Zealand Ministry of Foreign Affairs and Trade, (Apr. 18, 2021), https://www.mfat.govt.nz/en/trade/mfat-market-reports/the-importance-of-the-suez-canal-to-global-trade-18-april-2021#.

¹³ Natasha Turak, Suez Canal Blockage Could Cause Problems for the Globe: Here's What You Need to Know, CNBC (Mar. 25, 2021), https://www.cnbc.com/2021/03/25/suez-canal-cargo-ship-blockage-could-cause-problems-for-the-globe.html.

¹⁴ Kamali et al., Red Sea Attacks Disrupt Global Trade, International Monetary Fund, IMFBlog (Mar 7, 2024), https://www.imf.org/en/Blogs/Articles/2024/03/07/Red-Sea-Attacks-Disrupt-Global-Trade.

(H.) Other Transit Constraints

The Commission notes that other significant constraints affecting U.S. shipping may arise quickly in the global maritime environment. For example, when the Singapore-flagged containership Dali struck a bridge in Baltimore, Maryland in March 2024, six people were killed and maritime access to the Port of Baltimore was blocked, a situation that persisted for many weeks and led to losses that have been estimated to reach as high as $4 billion.¹⁵

¹⁵ Campbell Robertson and Peter Eavis, Justice Department Files $100 Million Claim in Fatal Baltimore Bridge Collapse, N.Y. Times (Sept. 18, 2024), https://www.nytimes.com/2024/09/18/us/justice-department-suit-baltimore-bridge-collapse.html; Jane Byron, The Baltimore bridge collapse: a $4 billion question, Lockton (July 9, 2024) https://global.lockton.com/news-insights/the-baltimore-bridge-collapse-a-4-billion-question.

(I.) Initiation of Investigation

The Commission will investigate whether constraints in global maritime chokepoints have created unfavorable shipping conditions caused by the laws, regulations or practices of foreign governments or the practices of foreign-flag vessel owners or operators. The Commission “has extensive regulatory duties under the various acts it is charged with administering,” and conducting investigations is “essential to the proper exercise” of those duties.” 46 CFR 502.281. In particular, the Commission is authorized to initiate investigations on its own motion “when in its discretion the Commission determines that information is required for the purpose of rulemaking or is necessary or helpful in the determination of its policies or the carrying out of its duties, including whether to institute formal proceedings directed toward determining whether any of the laws which the Commission administers have been violated.” 46 CFR 502.282. Among the Commission's duties are to identify in its annual report to Congress “any otherwise concerning practices by ocean common carriers” with certain characteristics identified by Congress. 46 U.S.C. 46106(b)(7). Accordingly, the Commission, upon issuing an Order of Investigation, may authorize its representatives to conduct such an investigation; may hold investigational hearings; may issue orders or subpoenas to gather testimony or documentary evidence; may order that testimony be taken by deposition; and may order the filing of reports or answers to written questions. 46 CFR 502.283 through 502.288; see generally 46 CFR part 502, subpart R (Nonadjudicatory Investigations).

At the early stage of the investigation, the Commission will focus on providing a route for interested parties to provide information, perspectives, and proposed solutions. Discussion of remedial measures or any other actions, if needed, would occur later in the process, and would be accompanied by the opportunity for additional public comment.

III. Investigation and Initial Request for Comments

The Commission has determined that the above-described situation meets the threshold requirements for consideration under the relevant regulatory authority. See 46 CFR part 502, subpart R. The Commission has therefore determined to initiate an investigation. See 46 CFR 502.282. The Commission has designated its General Counsel to lead the investigation. The General Counsel will update the Commission quarterly on the status of constraints in the maritime chokepoints identified herein, as well as any similar issues that may arise, and may propose that the Commission initiate one or more specific proceedings under 46 U.S.C. 42101 and related statutes. To that end, the Commission issues this Order of Investigation. See 46 CFR 502.283.

Interested persons are requested to submit written comments containing experiences, arguments, and/or data relevant to the above-described maritime chokepoints, particularly concerning the effects of laws, regulations, practices or other actions by foreign governments, and/or the practices of owners or operators of foreign-flag vessels, on shipping conditions in these chokepoints. The Commission's jurisdiction under 46 CFR 502.282 is broad, and the agency welcomes comments not only from government authorities and container shipping interests, but also from tramp operators, bulk cargo interests, vessel owners, individuals and groups with relevant information on environmental and resource-conservation considerations, and anyone else with relevant information or perspectives on these matters.

In particular, the Commission welcomes information and perspectives on the following:

1. What are the causes, nature, and effects, including financial and environmental effects, of constraints on one or more of the maritime chokepoints described above?

2. To what extent are constraints caused by or attributable to the laws, regulations, practices, actions, or inactions of one or more foreign governments?

3. To what extent are constraints caused by or attributable to the practices, actions, or inactions of owners or operators of foreign-flag vessels?

4. What will likely be the causes, nature, and effects, including financial and environmental effects, of any continued transit constraints during the rest of 2025?

5. What are the best steps the Commission might take, over the short term and the long term, to alleviate transit constraints and their effects?

6. What are the obstacles to implementing measures that would alleviate the above transit constraints and their effects, and how can these be addressed?

As the Commission proceeds with this investigation, it may determine to request additional comment or gather information through other means as authorized under 46 CFR part 502, subpart R.

By the Commission.
David Eng,
Secretary.

[FR Doc. 2025-04042 Filed 3-13-25; 8:45 am]

BILLING CODE 6730-02-P